DEPARTMENT OF COMMERCE

International Trade Administration

[A-428-815]

Notice of Final Results of Antidumping Duty Changed Circumstances Review and Revocation of Order In Part: Certain Corrosion-Resistant Carbon Steel Flat Products from Germany

AGENCY: Import Administration, International Trade Administration, Department of Commerce.

SUMMARY: On October 13, 2006, the U.S. Department of Commerce (“the Department”) published a notice of preliminary results of changed circumstances reviews with the intent to revoke, in part, the antidumping duty order on certain corrosion-resistant carbon steel flat products (“corrosion-resistant steel”) from Germany, as described below. See Preliminary Results of Antidumping Duty Changed Circumstances Reviews And Notice of Intent to Revoke Order in Part: Certain Corrosion-Resistant Carbon Steel Flat Products from Germany, 71 FR 60473 (October 13, 2006) (Preliminary Results). In our Preliminary Results, the Department invited interested parties to comment on the preliminary determination to exclude certain corrosion-resistant carbon steel flat products from Germany (“product in question”), as described below, from the scope of the order. The Department received no comments.

Absent any comments, the Department concludes that producers accounting for substantially all of the production of the domestic like product to which this order pertains lack interest in the relief provided by this order with respect to the product in question because the domestic parties: (1) Made affirmative statements of no interest in the continuation of the order with respect to the product in question; and (2) did not comment on the Preliminary Results, in which the Department stated its intent to revoke the order with respect to that merchandise. Therefore, the Department concludes that it is appropriate to revoke this order, in part, with respect to unliquidated entries of the product in question that are not subject to the final results of an administrative review.

EFFECTIVE DATE: November 13, 2006.

FOR FURTHER INFORMATION CONTACT: Judy Lao or Richard Weible, AD/CVD Operations, Office 7, Import Administration, International Trade Administration, U.S. Department of Commerce, 14th Street and Constitution Avenue, NW, Washington, DC 20230; telephone: (202) 482- 7924 or (202) 482-1103, respectively.

SUPPLEMENTARY INFORMATION:

Background

The Department published the antidumping duty order on corrosion-resistant steel from Germany on August 19, 1993. See Notice of Antidumping Duty Order: Corrosion-Resistant Carbon Steel Flat Products from Germany, 58 FR 44170 (August 19, 1993). See also Final Results of Changed Circumstances Antidumping Duty and Countervailing Duty Reviews and Revocation of Orders in Part: Certain Corrosion-Resistant Carbon Steel Flat Products from Germany, 64 FR 51292 (September 22, 1999), and Final Results of Changed Circumstances Antidumping and Countervailing Duty Reviews and Revocation of Orders in Part: Certain Corrosion-Resistant Carbon Steel Flat Products from Canada and Germany, 71 FR 14498 (March 22, 2006).

On August 17, 2006, ThyssenKrupp Steel North America, Inc. (“ThyssenKrupp”), a U.S. importer of the subject merchandise, requested a changed circumstances review to exclude from the antidumping duty order on corrosion-resistant steel from Germany imports meeting the following description: electrolytically zinc coated flat steel products, with a coating mass between 35 and 72 grams per meter squared on each side; with a thickness range of 0.67 mm or more but not more than 2.95 mm and width 817 mm or more but not over 1830 mm; having the following chemical composition (percent by weight): carbon not over 0.08, silicon not over 0.25, manganese not over 0.9, phosphorous not over 0.025, sulfur not over 0.012, chromium not over 0.1, titanium not over 0.005 and niobium not over 0.05; with a minimum yield strength of 310 Mpa and a minimum tensile strength of 390 Mpa; additionally coated on one or both sides with an organic coating containing not less than 30%% and not more than 60%% zinc and free of hexavalent chrome. See ThyssenKrupp letter to the Department dated August 17, 2006.¹ In addition, Mittal Steel USA (“Mittal Steel”), a major domestic corrosion-resistant steel producer, submitted a letter to the Department expressing a lack of interest in continuing to have the product in question subject to this antidumping duty order.² See Mittal Steel letter to the Department dated August 18, 2006.

¹ DaimlerChrylser Corporation (“DaimlerChrysler”), a domestic customer of corrosion-resistant steel, also submitted letters to the Department pre-dating ThyssenKrupp's request, indicating that it had contacted United States Steel Corporation, Mittal Steel, AK Steel, and Nucor Corporation, (domestic interested parties) and determined they are not interested in maintaining the antidumping duty order with respect to the product in question. See Letters to the Department from DaimlerChrysler dated June 22, 2006, and July 18, 2006, respectively.

² On September 26, 2006, Mittal Steel submitted a letter to the Department clarifying minor discrepancies in its August 18, 2006, submission regarding the product specifications of the product in question it is no longer interested in having covered by the antidumping duty order on corrosion-resistant steel from Germany.

In response to the request made by the “interested party” within the meaning of section 771(9) of the Tariff Act of 1930, as amended (“the Act”), ThyssenKrupp, and the expressed lack of interest from Mittal Steel, the Department published a notice of initiation of a changed circumstances review of the antidumping duty order on corrosion-resistant steel from Germany on September 12, 2006. See Initiation of Antidumping Duty Changed Circumstances Review: Certain Corrosion-Resistant Carbon Steel Flat Products from Germany, 71 FR 53653 (September 12, 2006) (Initiation Notice). On September 27, 2006, ThyssenKrupp stated that the effective date for the exclusion should be August 1, 2005. In the Initiation Notice, the Department indicated that interested parties could submit comments for consideration in the Department's preliminary results no later than 15 days after publication of the initiation of this review. The Department did not receive comments from interested parties. Absent any comments, the Department preliminarily concluded that producers accounting for substantially all of the production of the domestic like product to which these orders pertain lacked interest in the relief provided by these orders with respect to the product in question. See Preliminary Results, 71 FR 60473 (October 13, 2006). The Department invited interested parties to comment on its preliminary determination to revoke the order, in part. The Department did not receive comments from any interested parties.

Scope of the Order

The products covered by this order are corrosion-resistant carbon steel flat products from Germany. This scope includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers: 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are flat-rolled products of non-rectangular cross-section where such cross-section is achieved subsequent to the rolling process (i.e., products which have been “worked after rolling”) - for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%%-60%%-20%% ratio. Also excluded from this order are deep-drawing carbon steel strip, roll-clad on both sides with aluminum (AlSi) foils in accordance with St3 LG as to EN 10139/10140. The merchandise's chemical composition encompasses a corrosion-resistant material of U St 23 (continuous casting) in which carbon is less than 0.08; manganese is less than 0.30; phosphorous is less than 0.20; sulfur is less than 0.015; aluminum is less than 0.01; and the cladding material is a minimum of 99%% aluminum with silicon/copper/iron of less than 1%%. The products are in strips with thicknesses of 0.07mm to 4.0mm (inclusive) and widths of 5mm to 800mm (inclusive). The thickness ratio of aluminum on either side of steel may range from 3%%/94%%/3%% to 10%%/80%%/10%%. Also excluded from this order is corrosion-resistant steel meeting the following description: certain flat-rolled wear plate ranging from 30 inches to 50 inches in width, from 45 inches to 110 inches in length and from 0.187 inch to 0.875 inch in total thickness, having a layer on one side composed principally of a combination of boron carbides, chromium carbides, nickel carbides, silicon carbides, manganese carbides, niobium carbides, iron carbides, tungsten carbides, vanadium carbides, titanium carbides and/or molybdenum carbides fused to a non-alloy flat-rolled steel substrate. The carbides are in the form of MxCx where “M” stands for the metal and “x” for the atomic ratio. An example of a common carbide would be (Cr7C3). The carbide layer is a visually distinct layer ranging in thickness from 0.062 inch to 0.312 inch with hardness at the surface of the carbide layer in excess of 55 HRC.

As a result of this current changed circumstances review, also excluded from the scope of this order is certain corrosion-resistant carbon steel from Germany, meeting the following description: electrolytically zinc coated flat steel products, with a coating mass between 35 and 72 grams per meter squared on each side; with a thickness range of 0.67 mm or more but not more than 2.95 mm and width 817 mm or more but not over 1830 mm; having the following chemical composition (percent by weight): carbon not over 0.08, silicon not over 0.25, manganese not over 0.9, phosphorous not over 0.025, sulfur not over 0.012, chromium not over 0.1, titanium not over 0.005 and niobium not over 0.05; with a minimum yield strength of 310 Mpa and a minimum tensile strength of 390 Mpa; additionally coated on one or both sides with an organic coating containing not less than 30 percent and not more than 60 percent zinc and free of hexavalent chrome.

The HTSUS item numbers are provided for convenience and Customs purposes. The written description remains dispositive.

Final Result of Review and Revocation of Antidumping Duty Order, In Part

Pursuant to sections 751(d)(1) and 782(h)(2) of the Act, the Department may revoke an antidumping duty order based on a review under section 751(b) of the Act (i.e., a changed circumstances review). Section 751(b)(1) of the Act requires a changed circumstances review to be conducted upon receipt of a request which shows changed circumstances sufficient to warrant a review.

In the instant review, based on the information provided by ThyssenKrupp and Mittal Steel, and the lack of comments from domestic interested parties, the Department preliminarily found that the continued relief provided by the order with respect to the product in question from Germany is no longer of interest to the domestic industry. We did not receive any comments on our Preliminary Results. Therefore, the Department is revoking the order on corrosion-resistant steel from Germany with regard to the products that meet the specifications detailed above.

We will instruct U.S. Customs and Border Protection (CBP) to liquidate without regard to antidumping duties, and to refund any estimated antidumping duties collected on all unliquidated entries of the product in question that are not covered by the final results of an administrative review or automatic liquidation. The most recent period for which the Department has completed an administrative review, or ordered automatic liquidation, is August 1, 2004, through July 31, 2005. Any prior entries are subject to either the final results of review or automatic liquidation. Therefore, we will instruct CBP to liquidate, without regard to antidumping duties, shipments of corrosion-resistant steel meeting the specifications of the product in question entered, or withdrawn from warehouse, for consumption on or after August 1, 2005. We will also instruct CBP to pay interest on such refunds in accordance with section 778 of the Act and 19 CFR 351.222(g)(4).

This changed circumstance review, partial revocation of antidumping duty order, and notice are in accordance with sections 751(b) and (d), 782(h) and 777(i)(1) of the Act and section 351.216(e) and 351.222(g)(3)(vii) of the Department's regulations.

Dated: November 6, 2006.
David M. Spooner,
Assistant Secretary for Import Administration.

[FR Doc. E6-19109 Filed 11-9-06; 8:45 am]

BILLING CODE 3510-DS-S